DEPARTMENT OF HEALTH AND HUMAN SERVICES

Notice of Meeting of the Advisory Committee on Blood Safety and Availability

AGENCY: Office of the Secretary.

ACTION: Notice of meeting.

SUMMARY: The Advisory Committee on Blood Safety and Availability will meet on Thursday, January 23, 2003 and Friday, January 24, 2003 from 8 a.m. to 5 p.m. The meeting will take place at the Hyatt Regency Hotel on Capitol Hill, 400 New Jersey Avenue, NW., Washington, DC 20001. The meeting will be entirely open to the public.

The title of this meeting will be “Prioritizing Decisions in Transfusion Medicine: Transfusion Transmissible Diseases.”

Public comment will be solicited at the meeting. Public comment will be limited to five minutes per speaker. Those who wish to have printed material distributed to Advisory Committee members should submit thirty (30) copies to the Acting Executive Secretary prior to close of business January 24, 2003. Those who wish to utilize electronic data projection in their presentation to the Committee must submit their material to the Acting Executive Secretary prior to close of business January 17, 2003. In addition, anyone planning to comment is encouraged to contact the Acting Executive Secretary at her/his earliest convenience.

FOR FURTHER INFORMATION CONTACT: CAPT Lawrence C. McMurtry, Acting Executive Secretary, Advisory Committee on Blood Safety and Availability, Department of Health and Human Services, Office of Public Health and Science, 200 Independence Ave., SW., Room 736-E, Washington, DC 20201. Phone (202) 690-5558, FAX (202) 260-9372, e-mail mcmurtry@osophs.dhhs.gov

Lawrence C. McMurtry,
Acting Executive Secretary, Advisory Committee on Blood Safety and Availability.

[FR Doc. 02-32629 Filed 12-26-02; 8:45 am]

BILLING CODE 4150-28-M